DEPARTMENT OF TRANSPORTATION

Federal Aviation Administration

Air Traffic Procedures Advisory Committee

AGENCY: Federal Aviation Administration (FAA), DOT.

ACTION: Notice of Categorical Exclusion from Further Environmental Review for Standard Instrument Departures at La Guardia Airport.

SUMMARY: The FAA is issuing this notice to advise the public of its environmental review of four standard instrument departure procedures at LaGuardia International Airport (LGA). As required by the National Environmental Policy Act, an evaluation has been performed on the four proposed standard instrument departure procedures to determine the level of environmental review warranted. The FAA has elected to “Categorically Exclude from further environmental review” the four proposed departure procedures identified as GLDMN FOUR (RNAV) Runway 13, NTHNS TWO (RNAV) Runway 13, HOPEA ONE (RNAV) Runway 22, and JUTES ONE (RNAV) Runway 22.

DATES: Effective upon publication. A Categorical Exclusion (Cat Ex) from environmental review does not require a formal public hearing or a formal public comment period prior to the Cat Ex becoming effective.

FOR FURTHER INFORMATION CONTACT: Ms. Lee Kyker, Environmental Specialist, Air Traffic Eastern Service Center, Operations Support Group, 1701 Columbia Ave., College Park, GA 30337.

SUPPLEMENTARY INFORMATION: Notice is hereby given that the FAA has elected to “Categorically Exclude from further environmental review” the proposed RNAV departure procedures as follows: GLDMN FOUR (RNAV) Runway 13, NTHNS TWO (RNAV) Runway 13, HOPEA ONE (RNAV) Runway 22, and JUTES ONE (RNAV) Runway 22. Project: Publish GLDMN FOUR (RNAV) Runway 13, NTHNS TWO (RNAV) Runway 13, HOPEA ONE (RNAV) Runway 22, and JUTES ONE (RNAV) Runway 22.

Location: LaGuardia International Airport (LGA).

This project consists of publishing RNAV departure procedures identified as the GLDMN FOUR (RNAV) Runway 13, NTHNS TWO (RNAV) Runway 13, HOPEA ONE (RNAV) Runway 22, and JUTES ONE (RNAV) Runway 22. RNAV facilitates more efficient design of airspace and procedures which collectively result in improved safety, access, predictability, and operational efficiency. Improved access and flexibility for point-to-point operations help enhance reliability and reduce delays by defining more precise terminal area procedures. The altitude restrictions in the GLDMN will permit LGA to land Runway 4 and make right turns with Runway 13 departures. LGA's Runway 22 is used under very limited conditions, such as when required by weather or when Runway 13/31 is closed. The conditions of use of Runway 22 will not change, however use of the HOPEA ONE and JUTES ONE procedures will provide for greater efficiency under these limited use conditions. The review process indicated that the proposed project will not adversely impact the environment. Consequently, the FAA has elected to “Categorically Exclude from further environmental review” the proposed RNAV Standard Instrument Departure procedures (SIDS), based upon compliance with FAA Order 1050.1E, § 311(i).

Issued in Atlanta, GA, on June 18, 2012.
Barry A. Knight,
Acting Manager, Operations Support Group, FAA, Air Traffic, Eastern Service Center.

[FR Doc. 2012-16100 Filed 6-29-12; 8:45 am]

BILLING CODE 4910-13-P